EQUAL EMPLOYMENT OPPORTUNITY COMMISSION

Sunshine Act Meeting

Agency Holding the Meeting: Equal Employment Opportunity Commission.

“Federal Register” Citation of Previous Announcement: 71 FR 6482, February 8, 2006.

Previously Announced Time and Date of Meeting: Wednesday, February 15, 2006, 9 a.m. Eastern Time.

Change in the Meeting: The closed session of the meeting has been cancelled.

FOR FURTHER INFORMATION CONTACT: Stephen Llewellyn, Acting Executive Officer on (202) 663-4070.

This Notice Issued February 14, 2006.
Stephen Llewellyn,
Acting Executive Officer, Executive Secretariat.

[FR Doc. 06-1535 Filed 2-14-06; 4:32 pm]

BILLING CODE 6570-06-M